DEPARTMENT OF COMMERCE

Bureau of the Census

Census Advisory Committee of Professional Associations

AGENCY: Bureau of the Census, Commerce.

ACTION: Notice of public meeting.

SUMMARY: Pursuant to the Federal Advisory Committee Act (Pub. L. 92-463 as amended by Pub. L. 94-409), the Bureau of the Census (Census Bureau) is giving notice of a meeting of the Census Advisory Committee of Professional Associations. The Committee is composed of 36 members appointed by the Presidents of the American Economic Association, the American Statistical Association, the Population Association of America, and the Chairperson of the Board of the American Marketing Association. The Committee advises the Census Bureau Director on the full range of Census Bureau programs and activities in relation to its areas of expertise.

DATES: The meeting will convene on October 17-18, 2002. On October 17, the meeting will begin at 9 a.m. and adjourn at 5:30 p.m. On October 18, the meeting will begin at 9 a.m. and adjourn at 12 Noon.

ADDRESSES: The meeting will be held at the Sheraton Crystal City Hotel, 1800 Jefferson Davis Highway, Arlington, VA 22202.

FOR FURTHER INFORMATION CONTACT: Maxine Anderson-Brown, Acting Chief, Conference and Travel Management Services Branch, Department of Commerce, U.S. Census Bureau, Room 2150, Federal Building 3, Washington, DC 20233. Her phone number is 301-457-2236, TDD 301-457-2540.

SUPPLEMENTARY INFORMATION: The agenda for the meeting on October 17, which will begin at 9 a.m. and adjourn at 5:30 p.m., is as follows:

• Introductory Remarks by the Director, Census Bureau

• Census Bureau Responses to Committee Recommendations/Report on the April 2002 Meeting

• 2010 Reengineered Decennial Census

• American Community Survey: Overview of Research and Evaluation Program

• Supply Chain Dynamics and Their Effects on Census Data

• Use of Premiums to Boost Response Rates

• The Four Principles of the North American Industry Classification System

• Print Products in an Electronic Age

• Measuring Key Economic Indicators in U.S. Government Establishment Surveys

• Promoting the 2002 Economic Census

• Measuring the Electronic Economy at the U.S. Census Bureau: Status and Outlook

• Marketing Services Office Update

• Economic Program Operating Plans and Challenges

• Develop Recommendations and Special Interest Activities

• Producing Small Area Estimates of Health Insurance Coverage

• Population Estimates: Evaluating Past Performance and Planning for the Future

• Plans for Qualitative Research on Response Burden, Respondent Selection and Mode Preference in Business Surveys

• Developing Recommendations and Special Interest Activities

The agenda for the meeting on October 18, which will begin at 9 a.m. and adjourn at 12 Noon, is as follows:

• Chief Economist Update

• 2010 Reengineering Within Household Coverage Research

• Developing Recommendations and Special Interest Activities

The meeting is open to the public, and a brief period will be set aside for public comment and questions. Those persons with extensive questions or statements must submit them in writing to the Acting Chief, Conference and Travel Management Services Branch, at least three days before the meeting. Seating is available to the public on a first-come, first-served basis. Individuals wishing additional information or minutes regarding this meeting may contact the Acting Chief, Conference and Travel Management Services Branch as well. Her address and phone number are identified above under this notice's FOR FURTHER INFORMATION CONTACT heading.

This meeting is physically accessible to people with disabilities. Requests for sign language interpretation or other auxiliary aids should also be directed to the Acting Chief, Conference and Travel Management Services Branch.

Dated: September 16, 2002.
Charles Louis Kincannon,
Director, Bureau of the Census.

[FR Doc. 02-23937 Filed 9-19-02; 8:45 am]

BILLING CODE 3510-07-P